DEPARTMENT OF ENERGY

Federal Energy Regulatory Commission

Combined Notice of Filings #1

Take notice that the Commission received the following electric corporate filings:

Docket Numbers: EC18-37-000.

Applicants: Shoreham Solar Commons LLC.

Description: Application for Approval of the Disposition of Jurisdictional Facilities under Section 203 of the Federal Power Act of Shoreham Solar Commons LLC.

Filed Date: 12/19/17.

Accession Number: 20171219-5217.

Comments Due: 5 p.m. ET 1/9/18.

Take notice that the Commission received the following electric rate filings:

Docket Numbers: ER10-1350-006.

Applicants: Entergy Services, Inc.

Description: Entergy Services, Inc., as agent for the Entergy Operating Companies submits filing per 35.19a(b): Refund Report to be effective N/A.

Filed Date: 12/18/17.

Accession Number: 20171218-5269.

Comments Due: 5 p.m. ET 1/8/18.

Docket Numbers: ER13-136-004; ER13-135-004; ER13-137-004; ER13-138-004; ER13-141-004; ER13-142-004.

Applicants: Georgia-Pacific Brewton LLC.

Description: Triennial Market-Power Analyses of the Georgia-Pacific Entities in the Southeast Region.

Filed Date: 12/19/17.

Accession Number: 20171219-5242.

Comments Due: 5 p.m. ET 2/20/18.

Docket Numbers: ER15-1905-007.

Applicants: Amazon Energy LLC.

Description: Notice of Change in Status of Amazon Energy LLC.

Filed Date: 12/19/17.

Accession Number: 20171219-5241.

Comments Due: 5 p.m. ET 1/9/18.

Docket Numbers: ER17-1562-001.

Applicants: Energy Unlimited, Inc.

Description: Compliance filing: Energy Unlimited Inc MBR Tariff Update to be effective 2/19/2018.

Filed Date: 12/19/17.

Accession Number: 20171219-5204.

Comments Due: 5 p.m. ET 1/9/18.

Docket Numbers: ER17-2201-003; ER13-1536-015; ER10-2192-031; ER10-2178-031; ER10-2181-035; ER10-2182-034.

Applicants: Exelon FitzPatrick, LLC, Exelon Generation Company, LLC, Constellation Energy Commodities Group Maine, LLC, Constellation NewEnergy, Inc., Nine Mile Point Nuclear Station, LLC, R.E. Ginna Nuclear Power Plant, LLC.

Description: Notice of Non-Material Change in Status of Exelon FitzPatrick, LLC, et. al.

Filed Date: 12/19/17.

Accession Number: 20171219-5240.

Comments Due: 5 p.m. ET 1/9/18.

Docket Numbers: ER18-210-002.

Applicants: Emera Maine.

Description: Tariff Amendment: Request to Lift Stay and Answer Protest ER18-210-000 to be effective 1/1/2018.

Filed Date: 12/19/17.

Accession Number: 20171219-5195.

Comments Due: 5 p.m. ET 1/9/18.

Docket Numbers: ER18-215-001.

Applicants: Interstate Power and Light Company.

Description: Supplement to December 18, 2017 Interstate Power and Light Company tariff filing (Certificate of Service).

Filed Date: 12/19/17.

Accession Number: 20171219-5230.

Comments Due: 5 p.m. ET 12/26/17.

Docket Numbers: ER18-455-001.

Applicants: ISO New England Inc.

Description: Tariff Amendment: Errata to Filing Re: CSO Transfer Improvements—ER18-455-000 to be effective 3/1/2018.

Filed Date: 12/20/17.

Accession Number: 20171220-5047.

Comments Due: 5 p.m. ET 1/10/18.

Docket Numbers: ER18-475-000.

Applicants: The Potomac Edison Company, Monongahela Power Company, Virginia Electric and Power Company, PJM Interconnection, L.L.C.

Description: § 205(d) Rate Filing: VEPCO, Potomac and Monongahela submit Interconnection Agreement SA No. 4874 to be effective 2/20/2018.

Filed Date: 12/20/17.

Accession Number: 20171220-5029.

Comments Due: 5 p.m. ET 1/10/18.

Docket Numbers: ER18-476-000.

Applicants: Nevada Power Company.

Description: Notices of Cancellation of Rate Schedule No. 69, et al. of Nevada Power Company.

Filed Date: 12/19/17.

Accession Number: 20171219-5227.

Comments Due: 5 p.m. ET 1/9/18.

Docket Numbers: ER18-477-000.

Applicants: Alabama Power Company.

Description: § 205(d) Rate Filing: Russell County Solar LGIA Filing to be effective 12/11/2017.

Filed Date: 12/20/17.

Accession Number: 20171220-5075.

Comments Due: 5 p.m. ET 1/10/18.

Docket Numbers: ER18-478-000.

Applicants: Southwest Power Pool, Inc.

Description: § 205(d) Rate Filing: 1276R15 KCPL NITSA NOA to be effective 12/1/2017.

Filed Date: 12/20/17.

Accession Number: 20171220-5077.

Comments Due: 5 p.m. ET 1/10/18.

Docket Numbers: ER18-479-000.

Applicants: California Independent System Operator Corporation.

Description: Tariff Cancellation: 2017-12-20 Notice of Cancellation—EIM Implementation Agreement with PacifiCorp to be effective 2/19/2018.

Filed Date: 12/20/17.

Accession Number: 20171220-5107.

Comments Due: 5 p.m. ET 1/10/18.

Docket Numbers: ER18-480-000.

Applicants: Mid-Atlantic Interstate Transmission, LLC, American Transmission Systems, Incorporated, PJM Interconnection, L.L.C.

Description: § 205(d) Rate Filing: MAIT and ATSI submit ECSA Nos. 4719, 4720 and 4800 to be effective 2/19/2018.

Filed Date: 12/20/17.

Accession Number: 20171220-5108.

Comments Due: 5 p.m. ET 1/10/18.

Docket Numbers: ER18-481-000.

Applicants: California Independent System Operator Corporation.

Description: Tariff Cancellation: 2017-12-20 Notice of Cancellation—EIM Implementation Agreement with NV Energy to be effective 2/19/2018.

Filed Date: 12/20/17.

Accession Number: 20171220-5113.

Comments Due: 5 p.m. ET 1/10/18.

Docket Numbers: ER18-482-000.

Applicants: Public Service Company of Colorado.

Description: § 205(d) Rate Filing: OATT Att O-PSCo Depreciation, Tbl 25 Filing to be effective 5/1/2018.

Filed Date: 12/20/17.

Accession Number: 20171220-5116.

Comments Due: 5 p.m. ET 1/10/18.

Docket Numbers: ER18-483-000.

Applicants: Public Service Company of Colorado.

Description: § 205(d) Rate Filing: 20171220_Depreciation Filing to be effective 5/1/2018.

Filed Date: 12/20/17.

Accession Number: 20171220-5148.

Comments Due: 5 p.m. ET 1/10/18.

Docket Numbers: ER18-484-000.

Applicants: PJM Interconnection, L.L.C.

Description: § 205(d) Rate Filing: PJM submits Revisions to OA section 18.17.7 re: Generator Data Confidentiality to be effective 2/19/2018.

Filed Date: 12/20/17.

Accession Number: 20171220-5154.

Comments Due: 5 p.m. ET 1/10/18.

Docket Numbers: ER18-485-000.

Applicants: Duke Energy Progress, LLC.

Description: § 205(d) Rate Filing: DEP-NCEMC PSCA RS No. 182 (5th Amended) to be effective 1/1/2018.

Filed Date: 12/20/17.

Accession Number: 20171220-5156.

Comments Due: 5 p.m. ET 1/10/18.

Docket Numbers: ER18-486-000.

Applicants: Allegheny Generating Company.

Description: Baseline eTariff Filing: Baseline new to be effective 2/16/2018.

Filed Date: 12/20/17.

Accession Number: 20171220-5196.

Comments Due: 5 p.m. ET 1/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2017.
Nathaniel J. Davis, Sr.,
Deputy Secretary.

[FR Doc. 2017-27900 Filed 12-26-17; 8:45 am]

BILLING CODE 6717-01-P